DEPARTMENT OF EDUCATION

Notice of Submission for OMB Review

AGENCY: Department of Education.

ACTION: Comment request.

SUMMARY: The Director, Information Collection Clearance Division, Privacy, Information and Records Management Services, Office of Management, invites comments on the submission for OMB review as required by the Paperwork Reduction Act of 1995 (Pub. L. 104-13).

DATES: Interested persons are invited to submit comments on or before June 30, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: May 24, 2011.
Darrin A. King,
Director, Information Collection Clearance Division, Privacy, Information and Records Management Services, Office of Management.

Institute of Education Sciences

Type of Review: Revision

Title of Collection: National Title I Study of Implementation and Outcomes: Early Childhood Language Development (ECLD)

OMB Control Number: 1850-0871

Agency Form Number(s): N/A

Frequency of Responses: once

Affected Public: Not-for-profit institutions

Total Estimated Number of Annual Responses: 24,120

Total Estimated Annual Burden Hours: 9,385

Abstract: The study is being conducted as part of the National Assessment of Title I, mandated by Title I, Part E, Section 1501 of the Elementary and Secondary Education Act. The study is designed to identify school programs and instructional practices associated with improved language development, background knowledge, and comprehension outcomes for children in prekindergarten through third grade. Analyses will estimate the associations between instructional programs and practices and student outcomes to inform future rigorous evaluation of strategies to improve language and comprehension outcomes for at-risk children in these early years of school. We will identify 10 locations for the study, including seven-eight of the largest urban school districts and two-three states with large Title I populations. Within each of the 10 locations, we will select five high-performing and five low-performing schools. Within each school, we will randomly sample an average of three classrooms per grade. Within each classroom, we will randomly sample eight students. Students will be assessed in fall and spring. Principals, teachers, and parents will be surveyed once, and students' classrooms will be observed twice in the fall and twice in the spring. Information from students' school records will be extracted at the end of the school year.

Copies of the information collection submission for OMB review may be accessed from the RegInfo.gov Web site at http://www.reginfo.gov/public/do/PRAMain or from the Department's Web site at http://edicsweb.ed.gov, by selecting the “Browse Pending Collections” link and by clicking on link number 4494. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-13293 Filed 5-27-11; 8:45 am]

BILLING CODE 4000-01-P